DEPARTMENT OF COMMERCE

International Trade Administration

[A-351-825, A-533-810, A-588-833, A-469-805]

Continuation of Antidumping Duty Orders: Stainless Steel Bar From Brazil, India, Japan, and Spain

AGENCY: Import Administration, International Trade Administration, Department of Commerce.

ACTION: Notice of continuation of antidumping duty orders: stainless steel bar from Brazil, India, Japan, and Spain.

SUMMARY: On May 4, 2000, the Department of Commerce (“the Department”), pursuant to sections 751(c) and 752 (c) of the Tariff Act of 1930, as amended (“the Act”), determined that revocation of the antidumping duty orders on stainless steel bar from Brazil, India, Japan, and Spain is likely to lead to continuation or recurrence of dumping (65 FR 25909). On April 4, 2001, the International Trade Commission (“the Commission”), pursuant to section 751(c) of the Act, determined that revocation of the antidumping duty orders on stainless steel bar from Brazil, India, Japan, and Spain is likely lead to continuation or recurrence of material injury to an industry in the United States within a reasonably foreseeable time (66 FR 17927). Therefore, pursuant to 751(d)(2) of the Act and 19 CFR 351.218(e)(4), the Department is publishing notice of the continuation of the antidumping duty orders on stainless steel bar from Brazil, India, Japan, and Spain.

EFFECTIVE DATE: April 18, 2001.

FOR FURTHER INFORMATION CONTACT: Martha V. Douthit or James P. Maeder, Office of Policy for Import Administration, International Trade Administration, U.S. Department of Commerce, 14th Street and Constitution Ave., NW., Washington, DC 20230; telephone: (202) 482-5050 or (202) 482-3330, respectively.

SUPPLEMENTARY INFORMATION:

Background

On December 30, 1999, the Department initiated (64 FR 73510), and the Commission instituted (64 FR 73579), sunset reviews of the antidumping duty orders on stainless steel bar from Brazil, India, Japan, and Spain, pursuant to section 751(c) of the Act. As a result of its reviews, the Department found that revocation of the antidumping duty orders would likely lead to continuation or recurrence of dumping and notified the Commission of the magnitude of the margins likely to prevail were the orders to be revoked. See Stainless Steel Bar From Brazil, India, Japan, and Spain; Final Results of Antidumping Duty Expedited Sunset Reviews, 65 FR 25909 (May 4, 2000).

On April 4, 2001, the Commission determined, pursuant to section 751(c) of the Act, that revocation of the antidumping duty orders on stainless steel bar from Brazil, India, Japan, and Spain would likely lead to continuation or recurrence of material injury to an industry in the United States within a reasonably foreseeable time. See Stainless Steel Bar From Brazil, India, Japan, and Spain, 66 FR 17927 (April 4, 2001) and USITC Publication 3404 (March 2001), Investigation Nos. 731-TA-678-679 and 681-682 (Review).

Scope of the Orders

Imports covered by these orders are shipments of Stainless Steel Bar (“SSB”), specifically articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSB's that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections.

The SSB subject to these reviews are currently classifiable under subheadings 7222.10.00.05, 7222.10.00.50, 7222.20.00.05, 7222.20.00.45, 7222.20.00.75, and 7222.30.00.00 of the Harmonized Tariff Schedule of the United States (“HTSUS”). Although the HTSUS subheadings are provided for convenience and customs purposes, our written description of the scope of these orders is dispositive.

With respect to the order on the subject imports from Japan the Department has made two scope rulings. The following products were determined to be within the scope of the order:

Product within scope | Company | Citation
Keystone 2000 | Keystone Stainless Inc | 63 FR 6722 (February 10, 1998).
M35FL steel bar | Tohoku Steel Co | 64 FR 50273 (September 16, 1999).

Determination

As a result of the determination by the Department and the Commission that revocation of the antidumping duty orders would likely lead to continuation or recurrence of dumping and material injury to an industry in the United States, pursuant to section 751(d)(2) of the Act, the Department hereby orders the continuation of the antidumping duty orders on stainless steel bar from Brazil, India, Japan, and Spain. The effective date of continuation of these orders will be the date of publication in the Federal Register of this Notice of Continuation. Pursuant to section 751(c)(2) of the Act, the Department intends to initiate the next five-year review of these orders not later than March 2006.

Richard W. Moreland is temporarily fulfilling the duties of the Assistant Secretary for Import Administration.

Dated: April 11, 2001.
Richard W. Moreland,
Deputy Assistant Secretary, Import Administration.

[FR Doc. 01-9635 Filed 4-17-01; 8:45 am]

BILLING CODE 3510-DS-P